DEPARTMENT OF COMMERCE

National Oceanic and Atmospheric Administration

Agency Information Collection Activities; Submission to the Office of Management and Budget (OMB) for Review and Approval; Comment Request; Collection of High-Resolution Spatial and Temporal Fishery Dependent Data to Support Scientific Research

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 19, 2025.

ADDRESSES: Interested persons are invited to submit written comments to Adrienne Thomas, NOAA PRA Officer, at NOAA.PRA@noaa.gov. Please reference OMB Control Number 0648-0803 in the subject line of your comments. All comments received are part of the public record and will generally be posted on https://www.regulations.gov without change. Do not submit Confidential Business Information or otherwise sensitive or protected information.

FOR FURTHER INFORMATION CONTACT: Requests for additional information or specific questions related to collection activities should be directed to Katie Burchard, Marine Resources Management Specialist, Northeast Fisheries Science Center, 28 Tarwell Drive, Narragansett Rhode Island, 401-299-9587, Katie.Burchard@noaa.gov.

SUPPLEMENTARY INFORMATION:

I. Abstract

This is an extension of an existing information collection with no changes.

Commercial fishers from the Northeast and Mid-Atlantic will collaborate with NOAA Fisheries, Northeast Fisheries Science Center (NEFSC) Cooperative Research Branch, to voluntarily collect detailed fishery-dependent data during commercial fishing trips. Collection of information regarding commercial fisheries is necessary to fulfill the following statutory requirements: the Magnuson-Stevens Fishery Conservation and Management Act (16 U.S.C. 1801 et seq.).

Fishers will use the Fisheries Logbook Data Reporting Software (FLDRS) to collect high-resolution information on fishing effort and catch. The goal is to enable fishers to collect more accurate and precise data on where and how many fish are caught, and how much effort was expended. This high-resolution data will lead to improved accuracy of commercial fisheries data and better understanding of fishery dynamics. The FLDRS software was designed to record data at the haul (effort) level, similar to the level of data collected by the Northeast Fisheries Observer Program (NEFOP), but can be used to collect sub-trip level data and is approved for federal Electronic Vessel Trip Reporting (eVTR). FLDRS can be integrated with Global Positioning Systems (GPS), Vessel Monitoring Systems (VMS), depth sounders, and temperature/depth sensors. The FLDRS software can use the VMS to transmit a trip data file to NEFSC email account where it is ultimately uploaded to NEFSC database. Alternatively, the vessel operator can choose to manually upload trip files using the web-based application Vessel Electronic Reporting Web Portal (VERS).

Temperature and Depth (TD) data will be collected opportunistically and dependent on fisher interest. TD probes will be used to monitor the duration of time gear is fished in addition to collecting temperature and depth data. The high-resolution catch data in conjunction with temperature depth data can be used to validate oceanographic and habitat models to produce oceanographic and species density forecasts for fishers. These species-specific density forecast can be used as a tool while fishing to maximize efficiency and avoid limited stocks.

By collecting these data, we are improving the data available to support improved understanding of population, ecosystem, and fishery dynamics in the northeast region. These improved understandings help the Northeast Fisheries Science Center inform management so they can meet the standards laid out in the Magnuson Stevens Act. Without working with the fishing industry to collect these data, we are severely restricting our access to the best available data to support needed research that informs management decisions.

II. Method of Collection

There will be an onboarding paper registration process consisting of filling out and signing a resume document, data waiver, and non-disclosure agreement that can be mailed or faxed to the Northeast Fisheries Science Center (NEFSC) Cooperative Research Branch.

Fishery dependent data outside of temperature depth data will be collected electronically on a dedicated laptop using the NEFSC Fisheries Logbook Data Reporting Software (FLDRS). The data collected is encrypted and is either wirelessly transmitted via Vessel Electronic Reporting Web Portal or VMS to the NEFSC or manually collected routinely by Cooperative Research Staff.

Temperature and Depth (TD) data is collected opportunistically and dependent on fisher interest. The TD data is routinely retrieved from the vessel manually by Cooperative Research Branch staff.

Data can be viewed, uploaded, downloaded, and edited by the vessel owner and vessel owner approved representatives on a secure web-based application called the Vessel Electronic Reporting Web Portal (VERS).

III. Data

OMB Control Number: 0648-0803.

Form Number(s): None.

Type of Review: Extension of a current information collection.

Affected Public: Business or other for-profit organizations.

Estimated Number of Respondents: 15.

Estimated Time per Response: 50 minutes per day for vessels collecting trip level data.

Estimated Total Annual Burden Hours: 1,752.

Estimated Total Annual Cost to Public: $800 equipment.

Respondent's Obligation: Voluntary.

Legal Authority: Collection of information regarding commercial fisheries is necessary to fulfill the following statutory requirements: the Magnuson-Stevens Fishery Conservation and Management Act (16 U.S.C. 1801 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-04410 Filed 3-17-25; 8:45 am]

BILLING CODE 3510-22-P